DEPARTMENT OF COMMERCE

International Trade Administration

[A-533-502]

Welded Carbon Steel Pipes and Tubes From India

AGENCY: Import Administration, International Trade Administration, Department of Commerce.

ACTION: Notice of initiation of new shipper antidumping duty review: Welded carbon steel pipes and tubes from India.

EFFECTIVE DATE: July 3, 2003.

SUMMARY: On May 30, 2003, the Department of Commerce received a request to conduct a new shipper review of the antidumping duty order on welded carbon steel pipes and tubes from India. In accordance with section 751(a)(2)(B) of the Tariff Act of 1930, as amended, and 19 CFR 351.214(d), we are initiating a new shipper review.

FOR FURTHER INFORMATION CONTACT: Minoo Hatten or Mark Ross at (202) 482-1690 and (202) 482-4794, respectively, AD/CVD Enforcement III, Import Administration, International Trade Administration, U.S. Department of Commerce, 14th Street and Constitution Avenue, NW., Washington, DC 20230.

SUPPLEMENTARY INFORMATION:

Background

The notice announcing the antidumping duty order on welded carbon steel pipes and tubes from India was published on May 12, 1986. On May 30, 2003, we received a request for a new shipper review of the antidumping duty order on welded carbon steel pipes and tubes from India from Surya Roshni, Ltd. (Surya), and K&K Enterprises, Inc. Surya is both the producer and exporter of the subject merchandise on which its request for a new shipper review is based.

Initiation of Review

Pursuant to 19 CFR 351.214(b)(2)(i) and (iii)(A), Surya provided a certification that it did not export subject merchandise to the United States during the period of investigation (POI) and, that since the initiation of the investigation, it has never been affiliated with any exporter or producer that exported the subject merchandise to the United States during the POI, including those not individually examined during the investigation.

In addition, Surya submitted documentation establishing the following: (1) The date on which it first shipped the subject merchandise for export to the United States and the date on which its subject merchandise was first entered, or withdrawn from warehouse, for consumption; (2) the volume of its first shipment and the volume of subsequent shipments; and (3) the date of its first sale to an unaffiliated customer in the United States.

Pursuant to section 751(a)(2)(B) of the Tariff Act, as amended (the Act), and 19 CFR 351.214(d)(1), we are initiating a new shipper review for shipments of welded carbon steel pipes and tubes from India produced and exported by Surya. The period of review is May 1, 2002, through April 30, 2003. See 19 CFR 351.214(g)(1)(i)(A). We intend to issue the final results of this review no later than 270 days from the date of initiation. See 19 CFR 351.214(i).

We will instruct the Bureau of Customs and Border Protection to continue to suspend liquidation of any entries of the subject merchandise and to allow, at the option of the importer, the posting of a bond or security in lieu of a cash deposit for each entry of the subject merchandise produced and exported by Surya until the completion of the review. Surya has certified that it both produced and exported the subject merchandise on which it based the request for a new shipper review. Therefore, we will apply the bonding option only to subject merchandise for which it is both the producer and exporter.

Interested parties that need access to proprietary information in this new shipper review should submit applications for disclosure under administrative protective order in accordance with 19 CFR 351.305 and 351.306.

This initiation and notice are in accordance with section 751(a) of the Act and 19 CFR 351.214 and 351.221(c)(1)(i).

Dated: June 30, 2003.
Jeffrey May,
Deputy Assistant Secretary for Import Administration.

[FR Doc. 03-16920 Filed 7-2-03; 8:45 am]

BILLING CODE 3510-DS-P